DEPARTMENT OF THE INTERIOR

Fish and Wildlife Service

[FWS-R9-FAC-2013-N109; FXFR133609ANS09-FF09F14000-134]

Aquatic Nuisance Species Task Force; Public Teleconference/Webinar

AGENCY: Fish and Wildlife Service, Interior.

ACTION: Notice.

SUMMARY: We, the U.S. Fish and Wildlife Service, announce a public teleconference/webinar of the Aquatic Nuisance Species Task Force (ANS Task Force). The ANS Task Force's purpose is to develop and implement a program for U.S. waters to prevent introduction and dispersal of aquatic nuisance species; to monitor, control, and study such species; and to disseminate related information.

DATES: Teleconference/webinar: Monday June 17, 2013, from 1 p.m. to 4 p.m. EDT. Deadlines: For deadlines for registering to listen to the meeting by phone, listening and viewing on the Internet, and providing public comment by phone, please see “Public Input” under SUPPLEMENTARY INFORMATION.

ADDRESSES: You may participate in the teleconference/webinar from your home or work computer or phone.

FOR FURTHER INFORMATION CONTACT: Susan Mangin, Executive Secretary, ANS Task Force, U.S. Fish and Wildlife Service, 4401 North Fairfax Drive, Arlington, VA 22203; telephone: 703-358-2466; email: Susan_Mangin@fws.gov.

SUPPLEMENTARY INFORMATION: In accordance with the requirements of the Federal Advisory Committee Act, 5 U.S.C. App., we announce that the ANS Task Force will hold a teleconference/webinar.

Background

The ANS Task Force was established by the Nonindigenous Aquatic Nuisance Prevention and Control Act of 1990 (Act) (Pub. L. 106-580, as amended) and is composed of 13 Federal and 13 ex-officio members and co-chaired by the U.S. Fish and Wildlife Service and the National Oceanic and Atmospheric Administration. The ANS Task Force provides advice on aquatic nuisance species infesting waters of the U.S. and other nations, among other duties as specified in the Act.

Meeting Agenda

• Classroom Guidelines,

• National Invasive Species Awareness Week,

• Michigan and Mississippi ANS Management Plans, and

• Asian Carp Surveillance Plan

The final agenda and other related meeting information will be posted on the ANS Task Force Web site at http://www.anstaskforce.gov.

Public Input

If you wish to | You must contact the ANS Executive Secretary (see FOR FURTHER INFORMATION CONTACT) no later than
Listen to the webinar by telephone or listen and view through the Internet | Monday June 3, 2013.
Provide oral public comment by phone | Monday June 3, 2013.

Meeting Minutes

Summary minutes of the teleconference/webinar will be maintained by the Executive Secretary (see FOR FURTHER INFORMATION CONTACT). The minutes will be available for public inspection within 60 days after the meeting, and will be posted on the ANS Task Force's Web site at http://anstaskforce.gov.

Dated: May 14, 2013.
Jeffrey Underwood,
Acting Co-Chair, Aquatic Nuisance Species Task Force, Acting Assistant Director—Fish and Aquatic Conservation.

[FR Doc. 2013-11955 Filed 5-17-13; 8:45 am]

BILLING CODE 4310-55-P